DEPARTMENT OF ENERGY

Energy Information Administration

Agency Information Collection Activities; Proposals, Submissions, and Approvals

AGENCY: U.S. Energy Information Administration (EIA), Department of Energy (DOE).

ACTION: Notice and request for comments.

SUMMARY: EIA, pursuant to the Paperwork Reduction Act of 1995, intends to extend with no changes for three years with the Office of Management and Budget (OMB) Form EIA-851A Domestic Uranium Production Report (Annual), Form EIA-851Q Domestic Uranium Production Report (Quarterly), and Form EIA-858 Uranium Marketing Annual Survey. Form EIA-851A collects annual data from the U.S. uranium industry on uranium milling and processing, uranium feed sources, uranium mining, employment, drilling, expenditures, and uranium reserves. Form EIA-851Q collects monthly data from the U.S. uranium industry on uranium production and sources (mines and other) on a quarterly basis. Form EIA-858 collects annual data from the U.S. uranium market on uranium contracts and deliveries, inventories, enrichment services purchased, uranium in fuel assemblies, feed deliveries to enrichers, and unfilled market requirements for the current year and the following ten years.

DATES: Comments regarding this proposed information collection must be received on or before January 2, 2018. If you anticipate difficulty in submitting comments within that period, contact the person listed in ADDRESSES as soon as possible.

ADDRESSES: Written comments may be sent to Tim Shear, U.S. Energy Information Administration, EI-23, 1000 Independence Avenue SW., Washington, DC 20585 or by email to Uranium2018@eia.gov. The draft forms and instructions are available at https://www.eia.gov/survey/.

FOR FURTHER INFORMATION CONTACT: Requests for additional information or copies of the information collection instrument and instructions should be directed to Tim Shear at 202-586-0403 or by email at Tim.Shear@eia.gov.

SUPPLEMENTARY INFORMATION: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No. 1905-0160;

(2) Information Collection Request Title: Uranium Data Program;

(3) Type of Request: Renewal;

(4) Purpose: Uranium Data Program collects data on domestic uranium supply and demand activities, including production, exploration and development, trade, purchases and sales available to the U.S. The audience for these data include Congress, Executive Branch agencies, the nuclear and uranium industry, electric power industry, and the public. Form EIA-851A data appears in EIA's Domestic Uranium Production Report—Annual, at http://www.eia.gov/uranium/production/annual/. Form EIA-851Q data appear in EIA's Domestic Uranium Production Report—Quarterly at http://www.eia.gov/uranium/production/quarterly/. Form EIA-858 data appears in EIA's Uranium Marketing Annual Report at http://www.eia.gov/uranium/marketing/ and Domestic Uranium Production Report—Annual at http://www.eia.gov/uranium/production/annual/;

(5) Annual Estimated Number of Respondents: 124;

(6) Annual Estimated Number of Total Responses: 169;

(7) Annual Estimated Number of Burden Hours: 1200;

(8) Annual Estimated Reporting and Recordkeeping Cost Burden: EIA estimates that there are no capital and start-up costs associated with this data collection. The information is maintained during the normal course of business. The cost of the burden hours is estimated to be $88,392 (1200 burden hours times $73.66 per hour). Other than the cost of burden hours, EIA estimates that there are no additional costs for generating, maintaining, and providing this information.

Statutory Authority: Section 13(b) of the Federal Energy Administration Act of 1974, Pub. L. 93-275, codified as 15 U.S.C. 772(b) and the DOE Organization Act of 1977, Pub. L. 95-91, codified at 42 U.S.C. 7101 et seq.

Issued in Washington, DC, on October 17, 2017.
Nanda Srinivasan,
Director, Office of Survey Development and Statistical Integration, U. S. Energy Information Administration.

[FR Doc. 2017-23872 Filed 11-1-17; 8:45 am]

BILLING CODE 6450-01-P